DEPARTMENT OF THE INTERIOR

Fish and Wildlife Service

[FWS-R4-ES-2022-N017; FXES11140400000-223-FF04E00000]

Endangered Species; Recovery Permit Applications

AGENCY: Fish and Wildlife Service, Interior.

ACTION: Notice of receipt of permit applications; request for comments.

SUMMARY: We, the U.S. Fish and Wildlife Service, have received applications for permits, permit renewals, and/or permit amendments to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by May 25, 2022.

ADDRESSES: Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. Mail: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species | Location | Activity | Type of take | Permit action
TE 054973-6 | Nicholas Haddad, Michigan State University, East Lansing, MI | Mitchell's satyr butterfly (Neonympha mitchellii mitchellii) and Saint Francis' satyr butterfly (Neonympha mitchellii francisci) | Alabama, Michigan, Mississippi, and North Carolina | Population monitoring, scientific research, captive propagation, and release into suitable habitat | Capture, mark, transport, release, recapture, and salvage | Renewal/Amendment.
TE 822525-7 | Joseph McGlincy, Wiregrass Ecological Services, Bainbridge, GA | Red-cockaded woodpecker (Picoides borealis) | Alabama, Arkansas, Florida, Georgia, Kentucky, Louisiana, Mississippi, North Carolina, South Carolina, and Tennessee | Population management and monitoring | Capture, band, monitor nest cavities, construct and monitor artificial nest cavities and restrictors, recapture, and translocate | Renewal.
PER 0020528 | Kyle Edmonds, USDA Forest Service, Daniel Boone National Forest, London, KY | Gray bat (Myotis grisescens), Indiana bat (Myotis sodalis), northern long-eared bat (Myotis septentrionalis), Ozark big-eared bat. (Corynorhinus (=Plecotus) townsendii ingens), and Virginia big-eared bat (Corynorhinus (=Plecotus townsendii virginianus) | Kentucky | Presence/probable absence surveys, studies to document habitat use, and population monitoring | Enter hibernacula or maternity roost caves, capture with mist nets or harp traps, handle, identify, band, and radio tag | New.
TE 206777-4 | Ralph Costa, Ralph Costa's Woodpecker Outfit, LLC, Mountain Rest, SC | Red-cockaded woodpecker (Picoides borealis) | Alabama, Arkansas, Florida, Georgia, Louisiana, Mississippi, North Carolina, Oklahoma, South Carolina, Texas, and Virginia | Population management and monitoring | Capture, band, monitor nest cavities, construct and monitor artificial nest cavities and restrictors, recapture, collect buccal swabs, and translocate | Renewal/Amendment.
TE 130300-6 | Paul Johnson, Alabama Aquatic Biodiversity Center, Marion, AL | Fish: Alabama sturgeon (Scaphirhynchus suttkusi), boulder darter (Etheostoma wapiti), Cahaba shiner (Notropis cahabae), chucky madtom (Noturus crypticus), palezone shiner (Notropis albizonatus), rush darter (Etheostoma phytophilum), vermilion darter (Etheostoma chermocki), watercress darter (Etheostoma nuchale); Mussels: Alabama lampmussel (Lampsilis virescens), Alabama pearlshell (Margaritifera marrianae), Appalachian monkeyface (pearlymussel) (Quadrula sparsa), birdwing pearlymussel (Lemiox rimosus), black clubshell (Pleurobema curtum), Canoe Creek clubshell (Pleurobema athearni), Choctaw bean (Villosa choctawensis), clubshell (Pleurobema clava), Coosa moccasinshell (Medionidus parvulus), cracking pearlymussel (Hemistena lata), Cumberland bean (pearlymussel) (Villosa trabalis), Cumberland elktoe (Alasmidonta atropurpurea), Cumberland monkeyface (pearlymussel) (Quadrula intermedia), Cumberlandian combshell (Epioblasma brevidens), dark pigtoe (Pleurobema furvum), dromedary pearlymussel (Dromus dromas), fanshell (Cyprogenia stegaria), fat threeridge (mussel) (Amblema neislerii), finerayed pigtoe (Fusconaia cuneolus), flat pigtoe (Pleurobema marshalli), Georgia pigtoe (Pleurobema hanleyianum), Gulf moccasinshell (Medionidus penicillatus), heavy pigtoe (Pleurobema taitianum), littlewing pearlymussel (Pegias fabula), Ochlockonee moccasinshell (Medionidus simpsonianus), orangefoot pimpleback (pearlymussel) (Plethobasus cooperianus), Ouachita rock pocketbook (Arkansia wheeleri), oval pigtoe (Pleurobema pyriforme), ovate clubshell (Pleurobema perovatum), oyster mussel (Epioblasma capsaeformis), pale lilliput (pearlymussel) (Toxolasma cylindrellus), pink mucket (pearlymussel) (Lampsilis abrupta), purple bean (Villosa perpurpurea), purple cat's paw (=purple cat's paw pearlymussel) (Epioblasma obliquata obliquata), ring pink (mussel) (Obovaria retusa), rough pigtoe (Pleurobema plenum), round ebonyshell (Fusconaia rotulata), scaleshell mussel (Leptodea leptodon), sheepnose mussel (Plethobasus cyphyus), shiny pigtoe (Fusconaia cor), shinyrayed pocketbook (Lampsilis subangulata), slabside pearlymussel (Pleuronaia dolabelloides), snuffbox mussel (Epioblasma triquetra), southern acornshell (Epioblasma othcaloogensis), southern clubshell (Pleurobema decisum), southern kidneyshell (Ptychobranchus jonesi), southern pigtoe (Pleurobema georgianum), southern sandshell (Hamiota australis), spectaclecase (mussel) (Cumberlandia monodonta), stirrupshell (Quadrula stapes), tan riffleshell (Epioblasma florentina walkeri (=E. walkeri)), triangular kidneyshell (Ptychobranchus greenii), tubercled blossom (pearlymussel) (Epioblasma torulosa torulosa), upland combshell (Epioblasma metastriata), white wartyback (pearlymussel) (Plethobasus cicatricosus), winged mapleleaf (Quadrula fragosa); Snails: Anthony's riversnail (Athearnia anthonyi), armored snail (Pyrgulopsis (=Marstonia) pachyta), cylindrical lioplax (snail) (Lioplax cyclostomaformis), flat pebblesnail (Lepyrium showalteri), interrupted (=Georgia) rocksnail (Leptoxis foremani), plicate rocksnail (Leptoxis plicata), rough hornsnail (Pleurocera foremani), royal marstonia (snail) (Pyrgulopsis ogmorhaphe), and slender campeloma (Campeloma decampi) | Alabama, Georgia, Mississippi, and Tennessee | Scientific research, captive propagation, relocation, and reintroduction | Collect, transport, hold in captivity for longer than 45 days, release, translocate, and euthanize | Renewal/Amendment.
TE 084054-4 | James Orr, AECOM, Franklin, TN | Anthony's riversnail (Athearnia anthonyi) and Nashville crayfish (Orconectes shoupi) | Alabama and Tennessee | Presence/probable absence surveys, population monitoring, and distribution studies | Capture, identify, measure, and release | Renewal.
TE 38642A-3 | Kenneth Meyer, Avian Research and Conservation Institute, Gainesville, FL | Audubon's crested caracara (Polyborus plancus audubonii) and Everglade snail kite (Rostrhamus sociabilis plumbeus) | Florida | Examine core foraging areas, roosts, nest sites, timing of destinations of long-distance movements throughout the year, habitat loss and degradation effects, methyl mercury levels, and genetic sex determination | Capture, weigh, measure, band, collect body coverts, blood, and egg albumen, attach solar-powered transmitters, and release | Amendment.
TE 62026D-2 | Catherine Haase, Austin Peay State University, Clarksville, TN | Gray bat (Myotis grisescens), Indiana bat (Myotis sodalis), and northern long-eared bat (Myotis septentrionalis) | Kentucky and Tennessee | Assess bat community structure and habitat use | Capture with mist nets, handle, identify, band, and radio tag | Amendment.
TE 084047-5 | St. John's River Water Management District, Mount Dora, FL | Florida scrub-jay (Aphelocoma coerulescens) and red-cockaded woodpecker (Picoides borealis) | Florida | Population management and monitoring | Florida scrub-jay: Capture, band, and release; red-cockaded woodpecker: capture, band, monitor nest cavities, construct and monitor artificial nest cavities and restrictors, recapture, and translocate | Renewal/Amendment.
TE 810274-14 | ICF Jones and Stokes, Inc., Fisherville, KY | Bats: Gray bat (Myotis grisescens), Indiana bat (Myotis sodalis), northern long-eared bat (Myotis septentrionalis), Ozark big-eared bat (Corynorhinus (=Plecotus) townsendii ingens), and Virginia big-eared bat (Corynorhinus (=Plecotus) townsendii virginianus); Fish: Blackside dace (Phoxinus cumberlandensis), Cumberland darter (Etheostoma susanae), diamond darter (Crystallaria cincotta), duskytail darter (Etheostoma percnurum), Kentucky arrow darter (Etheostoma spilotum), palezone shiner (Notropis albizonatus), relict darter (Etheostoma chienense), and snail darter (Percina tanasi); Mussels: Alabama lampmussel (Lampsilis virescens), Appalachian elktoe (Alasmidonta raveneliana), Appalachian monkeyface (pearlymussel) (Quadrula sparsa), birdwing pearlymussel (Lemiox rimosus), black clubshell (Pleurobema curtum), clubshell (Pleurobema clava), cracking pearlymussel (Hemistena lata), Cumberland bean (pearlymussel) (Villosa trabalis), Cumberland elktoe (Alasmidonta atropurpurea), Cumberland monkeyface (pearlymussel) (Quadrula intermedia), Cumberland pigtoe (Pleurobema gibberum), Cumberlandian combshell (Epioblasma brevidens), dark pigtoe (Pleurobema furvum), dromedary pearlymussel (Dromus dromas), fanshell (Cyprogenia stegaria), fat pocketbook (Potamilus capax), finelined pocketbook (Lampsilis altilis), finerayed pigtoe (Fusconaia cuneolus), flat pigtoe (Pleurobema marshalli), fluted kidneyshell (Ptychobranchus subtentus), green blossom (pearlymussel) (Epioblasma torulosa gubernaculum), heavy pigtoe (Pleurobema taitianum), Higgins eye (pearlymussel) (Lampsilis higginsii), inflated heelsplitter (Potamilus inflatus), littlewing pearlymussel (Pegias fabula), northern riffleshell (Epioblasma torulosa rangiana), orangefoot pimpleback (pearlymussel) (Plethobasus cooperianus), orangenacre mucket (Lampsilis perovalis), oyster mussel (Epioblasma capsaeformis), pale lilliput (pearlymussel) (Toxolasma cylindrellus), pink mucket (pearlymussel) (Lampsilis abrupta), purple bean (Villosa perpurpurea), purple cat's paw (=purple cat's paw pearlymussel) (Epioblasma obliquata obliquata), rabbitsfoot (Quadrula cylindrica cylindrica), rayed bean (Villosa fabalis), ring pink (mussel) (Obovaria retusa), rough pigtoe (Pleurobema plenum), rough rabbitsfoot (Quadrula cylindrica strigillata), scaleshell mussel (Leptodea leptodon), sheepnose mussel (Plethobasus cyphyus), shiny pigtoe (Fusconaia cor), slabside pearlymussel (Pleuronaia dolabelloides), snuffbox mussel (Epioblasma triquetra), southern combshell (Epioblasma penita), spectaclecase (mussel) (Cumberlandia monodonta), stirrupshell (Quadrula stapes), tan riffleshell (Epioblasma florentina walkeri (=E. walkeri)), tubercled blossom (pearlymussel) (Epioblasma torulosa torulosa), turgid blossom (pearlymussel) (Epioblasma turgidula), white catspaw (pearlymussel) (Epioblasma obliquata perobliqua), white wartyback (pearlymussel) (Plethobasus cicatricosus), winged mapleleaf (Quadrula fragosa), and yellow blossom (pearlymussel) (Epioblasma florentina florentina); and Crustaceans: Big Sandy crayfish (Cambarus callainus) | Bats: Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming; Fish: Georgia, Kentucky, North Carolina, Tennessee, and Virginia; Mussels: Arkansas, Kentucky, Illinois, Indiana, Iowa, Louisiana, Michigan, Minnesota, Mississippi, Missouri, Ohio, Pennsylvania, Tennessee (except Upper Coosa River Basin and Tributaries), Virginia, West Virginia, and Wisconsin; Crustaceans: Kentucky, Virginia, and West Virginia | Bats: Presence/probable absence surveys, studies to document habitat use, and population monitoring; Fish, Mussels, and Crustaceans: Presence/probable absence surveys | Bats: Enter hibernacula or maternity roost caves, capture with mist nets or harp traps, handle, identify, band, and radio tag; Fish: Capture, identify, and release; Mussels: Capture, identify, mark, release, collect relict shells; Crustaceans: Capture via seining, handle, identify, and release | Renewal.
TE 43264B-1 | Nicole Riddle, Columbia, SC | Carolina heelsplitter (Lasmigona decorata) | South Carolina | Presence/probable absence surveys | Remove from substrate, handle, identify, release, and salvage shells | Renewal/Amendment.
TE 089075-5 | Donna Oddy, Rockledge, FL | Alabama beach mouse (Peromyscus polionotus ammobates), Anastasia Island beach mouse (Peromyscus polionotus phasma), Choctawhatchee beach mouse (Peromyscus polionotus allophrys), Perdido Key beach mouse (Peromyscus polionotus trissyllepsis), St. Andrew beach mouse (Peromyscus polionotus peninsularis), and southeastern beach mouse (Peromyscus polionotus niveiventris) | Alabama and Florida | Long-term monitoring, presence/probable absence surveys, mark/recapture studies, and genetic analyses | Capture, tag, ear snip, collect hair, radio collar, release, and translocate | Renewal/Amendment.
TE 009638-12 | Appalachian Technical Services, Inc., Wise, VA | Bats: Indiana bat (Myotis sodalis), gray bat (Myotis grisescens), northern long-eared bat (Myotis septentrionalis), Virginia big-eared bat (Corynorhinus (=Plecotus) townsendii virginianus); Fish: Blackside dace (Phoxinus cumberlandensis), Cumberland darter (Etheostoma susanae), duskytail darter (Etheostoma percnurum), Kentucky arrow darter (Etheostoma spilotum); Mussels: Appalachian monkeyface (pearlymussel) (Quadrula sparsa), birdwing pearlymussel (Lemiox rimosus), clubshell (Pleurobema clava), cracking pearlymussel (Hemistena lata), Cumberland bean (pearlymussel) (Villosa trabilis), Cumberland elktoe (Alasmidonta atropurpurea), Cumberland monkeyface (pearlymussel) (Quadrula intermedia), Cumberlandian combshell (Epioblasma brevidens), dromedary pearlymussel (Dromus dromas), fanshell (Cyprogenia stegaria), fat pocketbook (Potamilus capax), finerayed pigtoe (Fusconaia cuneolus), fluted kidneyshell (Ptychobranchus subtentus), littlewing pearlymussel (Pegias fabula), northern riffleshell (Epioblasma torulosa rangiana), orangefoot pimpleback (pearlymussel) (Plethobasus cooperianus), oyster mussel (Epioblasma capsaeformis), pink mucket (pearlymussel) (Lampsilis abrupta), purple bean (Villosa perpurpurea), purple cat's paw (=purple cat's paw pearlymussel) (Epioblasma obliquata obliquata), rabbitsfoot (Quadrula cylindrica cylindrica), ring pink (mussel) (Obovaria retusa), rough pigtoe (Pleurobema plenum), rough rabbitsfoot (Quadrula cylindrica strigillata), sheepnose mussel (Plethobasus cyphyus), shiny pigtoe (Fusconia cor), slabside pearlymussel (Pleuronaia dolabelloides), snuffbox mussel (Epioblasma triquetra); Crustaceans: Guyandotte River crayfish (Cambarus veteranus) and Big Sandy crayfish (Cambarus callainus) | Alabama, Georgia, Indiana, Kentucky, Mississippi, North Carolina, Ohio, Pennsylvania, Tennessee, Virginia, and West Virginia | Presence/probable absence surveys and scientific research aimed at recovery of the species | Bats: Enter hibernacula, capture with mist nets or harp traps, handle, band, radio tag, and release; Fish: Capture via seining, netting, trapping, or electroshocking, handle, identify, and release; Mussels: Remove from substrate, handle, identify, data collection, tagging, and release; Crustaceans: Capture via seining, handle, identify, and release | Renewal.
TE 81492B-1 | Dylan Brooks, Sylva, NC | Indiana bat (Myotis sodalis) and northern long-eared bat (Myotis septentrionalis) | Alabama, Arkansas, Connecticut, Delaware, Georgia, Illinois, Indiana, Iowa, Kansas, Kentucky, Maryland, Massachusetts, Michigan, Minnesota, Mississippi, Missouri, Nebraska, New Hampshire, New Jersey, New York, North Carolina, North Dakota, Ohio, Oklahoma, Pennsylvania, Rhode Island, South Carolina, South Dakota, Tennessee, Vermont, Virginia, West Virginia, and Wisconsin | Presence/probable absence surveys, habitat use and assessment research, population monitoring, and studies to evaluate potential impacts of White-nose Syndrome or other potential threats | Capture with mist nets, handle, identify, band, and radio tag | Renewal/Amendment.
TE 03305C-1 | U.S. Army Corps of Engineers, Memphis District, Memphis, TN | Curtis pearlymussel (Epioblasma florentina curtisii), fanshell (Cyprogenia stegaria), fat pocketbook (Potamilus capax), fat threeridge (mussel) (Amblema neislerii), Higgins eye (pearlymussel) (Lampsilis higginsii), inflated heelsplitter (Potamilus inflatus), orangefoot pimpleback (pearlymussel) (Plethobasus cooperianus), Ouachita rock pocketbook (Arkansia wheeleri), pink mucket (pearlymussel) (Lampsilis abrupta), rabbitsfoot (Quadrula cylindrica cylindrica), rayed bean (Villosa fabalis), ring pink (mussel) (Obovaria retusa), scaleshell mussel (Leptodea leptodon), sheepnose mussel (Plethobasus cyphyus), snuffbox mussel (Epioblasma triquetra), southern clubshell (Pleurobema decisum), spectaclecase (mussel) (Cumberlandia monodonta), turgid blossom (pearlymussel) (Epioblasma turgidula), and winged mapleleaf (Quadrula fragosa) | Alabama, Arkansas, Florida, Illinois, Iowa, Kentucky, Louisiana, Mississippi, Missouri, and Tennessee, Wisconsin | Presence/probable absence surveys | Capture, identify, and release | Renewal/Amendment.
TE 81430B-1 | Heather Wallace, Raleigh, NC | Gray bat (Myotis grisescens), Indiana bat (Myotis sodalis), northern long-eared bat (Myotis septentrionalis), and Virginia big-eared bat (Corynorhinus (=Plecotus) townsendii virginianus) | Alabama, Arkansas, Florida, Georgia, Kentucky, Louisiana, Mississippi, North Carolina, South Carolina, and Tennessee | Presence/probable absence surveys, population monitoring, genetic analyses, and White-nose Syndrome sampling | Enter hibernacula, capture with mist nets or harp traps, handle, identify, band, radio tag, collect hair samples, wing punch, and swab | Renewal/Amendment.
TE 81500B-1 | Sara Samoray, Nashville, TN | Gray bat (Myotis grisescens), Indiana bat (Myotis sodalis), northern long-eared bat (Myotis septentrionalis), and Virginia big-eared bat (Corynorhinus (=Plecotus) townsendii virginianus) | Alabama, Arkansas, Connecticut, Delaware, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys, studies to document habitat use, population monitoring, and to evaluate potential impacts of White-nose Syndrome or other threats | Capture with mist nets or harp traps, handle, identify, band, and radio tag | Renewal.
TE 178643-3 | Jeffrey West, Columbia, SC | Carolina heelsplitter (Lasmigona decorata) | North Carolina and South Carolina | Presence/probable absence surveys | Capture, handle, identify, and release | Renewal.
TE 81353B-1 | Stephanie Penk, Sylva, NC | Indiana bat (Myotis sodalis) and northern long-eared bat (Myotis septentrionalis) | Alabama, Arkansas, Connecticut, Delaware, Georgia, Illinois, Indiana, Iowa, Kansas, Kentucky, Maryland, Massachusetts, Michigan, Minnesota, Mississippi, Missouri, Nebraska, New Hampshire, New Jersey, New York, North Carolina, North Dakota, Ohio, Oklahoma, Pennsylvania, Rhode Island, South Carolina, South Dakota, Tennessee, Vermont, Virginia, West Virginia, and Wisconsin | Presence/probable absence surveys, habitat use and assessment research, population dynamics evaluation, and migration research | Capture with mist nets, handle, identify, band, and radio tag | Renewal.
TE 88796C-2 | Geological Survey of Alabama, Tuscaloosa, AL | Fish: Blue shiner (Cyprinella caerulea), Cahaba shiner (Notropis cahabae), goldline darter (Percina aurolineata), rush darter (Etheostoma phytophilum), vermilion darter (Etheostoma chermocki); Mussels: Alabama moccasinshell (Medionidus acutissimus), Coosa moccasinshell (Medionidus parvulus), dark pigtoe (Pleurobema furvum), finelined pocketbook (Lampsilis altilis), Georgia pigtoe (Pleurobema hanleyianum), heavy pigtoe (Pleurobema taitianum), inflated heelsplitter (Potamilus inflatus), orangenacre mucket (Lampsilis perovalis), ovate clubshell (Pleurobema perovatum), southern acornshell (Epioblasma othcaloogensis), southern clubshell (Pleurobema decisum), southern combshell (Epioblasma penita), southern pigtoe (Pleurobema georgianum), triangular kidneyshell (Ptychobranchus greenii), upland combshell (Epioblasma metastriata) | Alabama | Population surveys | Capture, handle, identify, and release | Amendment.
PER 0036267 | Shane Kelley, Louisville, KY | Gray bat (Myotis grisescens), Indiana bat (Myotis sodalis), northern long-eared bat (Myotis septentrionalis), and Virginia big-eared bat (Corynorhinus (Plecotus) townsendii virginianus) | Alabama, Arkansas, Connecticut, Delaware, Georgia, Illinois, Indiana, Iowa, Kansas, Kentucky, Louisiana, Maine, Maryland, Massachusetts, Minnesota, Mississippi, Missouri, Montana, Nevada, New Hampshire, New Jersey, New York, North Carolina, North Dakota, Ohio, Oklahoma, Pennsylvania, Rhode Island, South Carolina, South Dakota, Tennessee, Vermont, Virginia, West Virginia, Wisconsin, and Wyoming | Presence/probable absence surveys | Capture with mist nets or harp traps, handle, identify, band, and radio tag | New.
PER 0036268 | KFS LLC, Huntsville, AL | Alabama beach mouse (Peromyscus polionotus ammobates) | Alabama | Population monitoring, mark/recapture studies | Capture, tag, and release | New.
TE 42183A-2 | Eglin Air Force Base, Niceville, FL | Red-cockaded woodpecker (Picoides borealis) | Alabama, Arkansas, Florida, Georgia, Louisiana, Mississippi, North Carolina, Oklahoma, South Carolina, Texas, and Virginia | Population management and monitoring | Capture, band, monitor nest cavities, construct and monitor artificial nest cavities and restrictors, recapture, and translocate | Renewal/Amendment.
TE 087194-5 | Florida Forest Service, Goethe State Forest, Dunnellon, FL | Red-cockaded woodpecker (Picoides borealis) | Goethe State Forest, Levy County, Florida | Population management and monitoring | Capture, band, construct and install artificial nest cavities and restrictors, monitor nest cavities, recapture, and translocate | Renewal/Amendment.
PER 0037085 | Mississippi Aquarium, Gulfport, MS | Green sea turtle (Chelonia mydas), hawksbill sea turtle (Eretmochelys imbricata), Kemp's ridley sea turtle (Lepidochelys kempii), leatherback sea turtle (Dermochelys coriacea), and loggerhead sea turtle (Caretta caretta) | Mississippi | Population monitoring should they be re-encountered and physiological research during rehabilitation | Insert PIT tag, attach flipper tag, and collect blood samples | New.
PER 0037218 | Alabama Department of Environmental Management, Decatur, AL | Alabama sturgeon (Scaphirhynchus suttkusi), blue shiner (Cyprinella caerulea), boulder darter (Etheostoma wapiti), Cahaba shiner (Notropis cahabae), goldline darter (Percina aurolineata), palezone shiner (Notropis albizonatus), rush darter (Etheostoma phytophilum), spring pygmy sunfish (Elassoma alabamae), trispot darter (Etheostoma trisella), vermilion darter (Etheostoma chermocki), watercress darter (Etheostoma nuchale) | Alabama | Presence/probable absence surveys and population monitoring | Capture, handle, identify, and release | New.
PER 0037593 | Donald Hubbs, Camden, TN | Alabama lampmussel (Lampsilis virescens), Alabama moccasinshell (Medionidus acutissimus), Appalachian elktoe (Alasmidonta raveneliana), Appalachian monkeyface (pearlymussel) (Quadrula sparsa), birdwing pearlymussel (Lemiox rimosus), clubshell (Pleurobema clava), Coosa moccasinshell (Medionidus parvulus), cracking pearlymussel (Hemistena lata), Cumberland bean (pearlymussel) (Villosa trabalis), Cumberland elktoe (Alasmidonta atropurpurea), Cumberland monkeyface (pearlymussel) (Quadrula intermedia), Cumberland pigtoe (Pleurobema gibberum), Cumberlandian combshell (Epioblasma brevidens), dromedary pearlymussel (Dromus dromas), fanshell (Cyprogenia stegaria), fat pocketbook (Potamilus capax), finelined pocketbook (Lampsilis altilis), finerayed pigtoe (Fusconaia cuneolus), fluted kidneyshell (Ptychobranchus subtentus), Georgia pigtoe (Pleurobema hanleyianum), green blossom (pearlymussel) (Epioblasma torulosa gubernaculum), inflated heelsplitter (Potamilus inflatus), littlewing pearlymussel (Pegias fabula), orangefoot pimpleback (pearlymussel) (Plethobasus cooperianus), oyster mussel (Epioblasma capsaeformis), pale lilliput (pearlymussel) (Toxolasma cylindrellus), pink mucket (pearlymussel) (Lampsilis abrupta), purple bean (Villosa perpurpurea), purple cat's paw (purple cat's paw pearlymussel) (Epioblasma obliquata obliquata), rabbitsfoot (Quadrula cylindrica cylindrica), rayed bean (Villosa fabalis), ring pink (mussel) (Obovaria retusa), rough pigtoe (Pleurobema plenum), rough rabbitsfoot (Quadrula cylindrica strigillata), scaleshell mussel (Leptodea leptodon), sheepnose mussel (Plethobasus cyphyus), shiny pigtoe (Fusconaia cor), slabside pearlymussel (Pleuronaia dolabelloides), snuffbox mussel (Epioblasma triquetra), southern acornshell (Epioblasma othcaloogensis), southern clubshell (Pleurobema decisum), southern pigtoe (Pleurobema georgianum), spectaclecase (mussel) (Cumberlandia monodonta), tan riffleshell (Epioblasma florentina walkeri (E. walkeri)), triangular kidneyshell (Ptychobranchus greenii), tubercled blossom (pearlymussel) (Epioblasma torulosa torulosa), turgid blossom (pearlymussel) (Epioblasma turgidula), upland combshell (Epioblasma metastriata), white wartyback (pearlymussel) (Plethobasus cicatricosus), winged mapleleaf (Quadrula fragosa), and yellow blossom (pearlymussel) (Epioblasma florentina florentina) | Alabama, Florida, Georgia, Kentucky, Louisiana, Mississippi, North Carolina, South Carolina, and Tennessee | Presence/probable absence surveys, scientific research, and collect for captive propagation and reintroduction | Remove from substrate, handle, identify, collect tissue, mark, release, collect for propagation at permitted Tennessee facility, transport, and release | New.
TE 88797B-2 | Amber Nolder, Harrisburg, PA | Gray bat (Myotis grisescens), Indiana bat (Myotis sodalis), and northern long-eared bat (Myotis septentrionalis) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys, habitat assessments, and habitat-use studies | Capture with mist nets and harp traps, handle, identify, band, mark with non-toxic paint, and radio tag | Renewal.
TE 142806-3 | James Cox, Tallahassee, FL | Red-cockaded woodpecker (Picoides borealis) | Florida and Georgia | Cross-fostering nestlings | Monitor, capture, weigh, band, release, translocate, and collect cloacal swabs | Amendment.
PER 0037739 | Arkansas State University, State University, AR | Lindera melissifolia (pondberry) | Arkansas | Scientific research and propagation | Collect root/rhizome tissue, and stem pieces | New.
PER 0037719 | Kissimmee Prairie Preserve State Park, Okeechobee, FL | Florida grasshopper sparrow (Ammodramus savannarum floridanus) | Florida | Presence/probable absence surveys, population management and monitoring, and collection and transport of eggs, nestlings, and adults for captive breeding | Nest searching, deploy nest cameras, install predator fences, nest lifting, fire ant treatment, capture with mist nets and audio lures, handle, band, monitor nest cavities, install predator barriers, collect blood, feces, and buccal swabs, collect and transport eggs, nestlings, and adults for captive breeding at permitted White Oak Conservation Foundation facility | New.
PER 0037812 | Royal Ontario Museum, Toronto, ON | Gray bat (Myotis grisescens), Indiana bat (Myotis sodalis), and northern long-eared bat (Myotis septentrionalis) | Tennessee | Presence/probable absence surveys | Capture via mist nets and harp traps, handle, identify, and release | New.
PER 0037836 | Christopher Sheats, New Hill, NC | Amphibians: Neuse River waterdog (Necturus lewisi); Fish: Cape Fear shiner (Notropis mekistocholas), Carolina madtom (Noturus furiosus), Roanoke logperch (Percina rex), Waccamaw silverside (Menidia extensa); Mussels: Appalachian elktoe (Alasmidonta raveneliana), Atlantic pigtoe (Fusconaia masoni), Carolina heelsplitter (Lasmigona decorata), dwarf wedgemussel (Alasmidonta heterodon), James spinymussel (Pleurobema collina), littlewing pearlymussel (Pegias fabula), Tar River spinymussel (Elliptio steinstansana), and yellow lance (Elliptio lanceolata) | North Carolina and South Carolina | Presence/probable absence surveys | Amphibians: Capture via trap and baiting, handle, identify, and release; Fish: Capture via seining, or netting, handle, identify, and release; Mussels: Remove from substrate, handle, identify, mark, and release | New.
PER 0037837 | Justin Bagley, Jacksonville State University, Jacksonville, AL | Blue shiner (Cyprinella caerulea) and Cahaba shiner (Notropis cahabae) | Alabama | Presence/Probable absence surveys, genomic analyses, and increase museum collection | Capture via seining or netting, handle, identify, photograph, collect non-lethal fin clips, release, collect voucher specimens | New.
TE 079863-4 | Michael Gangloff, Boone, NC | Mussels: Alabama lampmussel (Lampsilis virescens), Alabama moccasinshell (Medionidus acutissimus), Alabama pearlshell (Margaritifera marrianae), Altamaha spinymussel (Elliptio spinosa), Appalachian elktoe (Alasmidonta raveneliana), Appalachian monkeyface (pearlymussel) (Quadrula sparsa), birdwing pearlymussel (Lemiox rimosus), black clubshell (Pleurobema curtum), Carolina heelsplitter (Lasmigona decorata), Chipola slabshell (Elliptio chipolaensis), Choctaw bean (Villosa choctawensis), clubshell (Pleurobema clava), Coosa moccasinshell (Medionidus parvulus), cracking pearlymussel (Hemistena lata), Cumberland bean (pearlymussel) (Villosa trabalis), Cumberland elktoe (Alasmidonta atropurpurea), Cumberland monkeyface (pearlymussel) (Quadrula intermedia), Cumberland pigtoe (Pleurobema gibberum), Cumberlandian combshell (Epioblasma brevidens), dark pigtoe (Pleurobema furvum), dromedary pearlymussel (Dromus dromas), dwarf wedgemussel (Alasmidonta heterodon), fanshell (Cyprogenia stegaria), fat pocketbook (Potamilus capax), fat threeridge (mussel) (Amblema neislerii), finelined pocketbook (Lampsilis altilis), finerayed pigtoe (Fusconaia cuneolus), flat pigtoe (Pleurobema marshalli), fuzzy pigtoe (Pleurobema strodeanum), green blossom (pearlymussel) (Epioblasma torulosa gubernaculum), Gulf moccasinshell (Medionidus penicillatus), heavy pigtoe (Pleurobema taitianum), inflated heelsplitter (Potamilus inflatus), interrupted (=Georgia) rocksnail (Leptoxis foremani), James spinymussel (Pleurobema collina), littlewing pearlymussel (Pegias fabula), narrow pigtoe (Fusconaia escambia), Ochlockonee moccasinshell (Medionidus simpsonianus), orangefoot pimpleback (pearlymussel) (Plethobasus cooperianus), oval pigtoe (Pleurobema pyriforme), ovate clubshell (Pleurobema perovatum), oyster mussel (Epioblasma capsaeformis), pale lilliput (pearlymussel) (Toxolasma cylindrellus), pink mucket (pearlymussel) (Lampsilis abrupta), purple bankclimber (mussel) (Elliptoideus sloatianus), purple bean (Villosa perpurpurea), purple cat's paw (=purple cat's paw pearlymussel) (Epioblasma obliquata obliquata), ring pink (mussel) (Obovaria retusa), rough pigtoe (Pleurobema plenum), rough rabbitsfoot (Quadrula cylindrica strigillata), round ebonyshell (Fusconaia rotulata), scaleshell mussel (Leptodea leptodon), sheepnose mussel (Plethobasus cyphyus), shiny pigtoe (Fusconaia cor), shinyrayed pocketbook (Lampsilis subangulata), slabside pearlymussel (Pleuronaia dolabelloides), southern acornshell (Epioblasma othcaloogensis), southern clubshell (Pleurobema decisum), southern combshell (Epioblasma penita), southern kidneyshell (Ptychobranchus jonesi), southern pigtoe (Pleurobema georgianum), southern sandshell (Hamiota australis), stirrupshell (Quadrula stapes), tan riffleshell (Epioblasma florentina walkeri (=E. walkeri)), tapered pigtoe (Fusconaia burkei), Tar River spinymussel (Elliptio steinstansana), triangular kidneyshell (Ptychobranchus greenii), tubercled blossom (pearlymussel) (Epioblasma torulosa torulosa), turgid blossom (pearlymussel) (Epioblasma turgidula), upland combshell (Epioblasma metastriata), white wartyback (pearlymussel) (Plethobasus cicatricosus), winged mapleleaf (Quadrula fragosa), and yellow blossom (pearlymussel) (Epioblasma florentina florentina); Snails: Anthony's riversnail (Athearnia anthonyi), armored snail (Pyrgulopsis (=Marstonia) pachyta), cylindrical lioplax (snail) (Lioplax cyclostomaformis), flat pebblesnail (Lepyrium showalteri), Lacy elimia (snail) (Elimia crenatella), painted rocksnail (Leptoxis taeniata), plicate rocksnail (Leptoxis plicata), rough hornsnail (Pleurocera foreman), round rocksnail (Leptoxis ampla), slender campeloma (Campeloma decampi), and tulotoma snail (Tulotoma magnifica) | Alabama, Florida, Georgia, Kentucky, Mississippi, Mississippi, North Carolina, South Carolina, Tennessee, and Virginia | Presence/probable absence surveys | Capture, identify, tag, collect buccal swabs, release, and salvage shells | Renewal.
TE 50300D-1 | Edward Wilson, Lexington, KY | Gray bat (Myotis grisescens), Indiana bat (Myotis sodalis), and northern long-eared bat (Myotis septentrionalis) | Kentucky, North Carolina, Ohio, South Carolina, Tennessee, Virginia, and West Virginia | Presence/probable absence surveys | Capture via mist nets and harp traps, handle, identify, and release | Amendment.
TE 087191-6 | Sandhills Ecological Institute, Southern Pines, NC | Red-cockaded woodpecker (Picoides borealis) | North Carolina and South Carolina | Population management and monitoring and research on Avian Keratin Disorder | Capture, recapture, band, construct and monitor artificial nest cavities and restrictors, monitor nest cavities, translocate, collect buccal and cloacal swabs, and capture and recapture birds that exhibit Avian Keratin Disorder to monitor their fate in the population | Renewal/Amendment.

Authority

We publish this notice under section 10(c) of the Endangered Species Act of 1973, as amended (16 U.S.C. 1531 et seq.).

John Tirpak,
Deputy Assistant Regional Director, Ecological Services.

[FR Doc. 2022-08689 Filed 4-22-22; 8:45 am]

BILLING CODE 4333-15-P